FEDERAL EMERGENCY MANAGEMENT AGENCY

44 CFR Part 67

Final Flood Elevation Determinations

AGENCY: Federal Emergency Management Agency (FEMA).

ACTION: Final rule.

SUMMARY: Base (1-percent-annual-chance) Flood Elevations and modified Base Flood Elevations (BFEs) are made final for the communities listed below. The BFEs and modified BFEs are the basis for the floodplain management measures that each community is required either to adopt or to show evidence of being already in effect in order to qualify or remain qualified for participation in the National Flood Insurance Program (NFIP).

EFFECTIVE DATE: The date of issuance of the Flood Insurance Rate Map (FIRM) showing BFEs and modified BFEs for each community. This date may be obtained by contacting the office where the FIRM is available for inspection as indicated in the table below.

ADDRESSES: The final base flood elevations for each community are available for inspection at the office of the Chief Executive Officer of each community. The respective addresses are listed in the table below.

FOR FURTHER INFORMATION CONTACT: Michael M. Grimm, Acting Chief, Hazards Study Branch, Federal Insurance and Mitigation Administration, FEMA, 500 C Street, SW., Washington, DC 20472, (202) 646-3461 or (e-mail) michael.grimm@fema.gov.

SUPPLEMENTARY INFORMATION: FEMA makes final determinations listed below of BFEs and modified BFEs for each community listed. The proposed BFEs and proposed modified BFEse were published in newspapers of local circulation and an opportunity for the community or individuals to appeal the proposed determinations to or through the community was provided for a period of ninety (90) days. The proposed BFEs and proposed modified BFEs were also published in the Federal Register.

This final rule is issued in accordance with section 110 of the Flood Disaster Protection Act of 1973, 42 U.S.C. 4104, and 44 CFR part 67.

FEMA has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act

This rule is categorically excluded from the requirements of 44 CFR part 10, Environmental Consideration. No environmental impact assessment has been prepared.

Regulatory Flexibility Act

The Administrator of the Federal Insurance and Mitigation Administration certifies that this rule is exempt from the requirements of the Regulatory Flexibility Act because final or modified base flood elevations are required by the Flood Disaster Protection Act of 1973, 42 U.S.C. 4104, and are required to establish and maintain community eligibility in the NFIP. No regulatory flexibility analysis has been prepared.

Regulatory Classification

This final rule is not a significant regulatory action under the criteria of section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of section 2(b)(2) of Executive Order 12778.

List of Subjects in 44 CFR Part 67

Administrative practice and procedure, Flood insurance, Reporting and record keeping requirements.

Accordingly, 44 CFR part 67 is amended to read as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | #Depth in feet above ground. *Elevation in feet (NGVD) Modified ◆Elevation in feet (NAVD) Modified
Arizona | Saline County (Unincorporated Areas) (FEMA Docket No. 7609) | Clear Creek | Approximately 4,800 feet downstream of U.S. Route 167 | *252
|  |  | Approximately 350 feet upstream of U.S Route 167 | *270
|  | Duck Creek | Approximately 6,000 feet downstream of S. Springlake Road | *253
|  |  | Approximately 300 feet upstream of U.S. Route 167 | *275
Arizona | Saline County (Unincorporated Areas) (FEMA Docket No. 7609) | Hopt Branch | Approximately 1,500 feet downstream of Honeysuckle Drive | *268
|  |  | Approximately 4,250 feet upstream of Honeysuckle Drive | *285
|  | Maple Creek | Approximately 6,200 feet downstream of US Route 65 | *237
|  |  | Just upstream of Springlake Road | *287
|  | Maple Creek Tributary | Approximately 4,500 feet downstream of US Route 167 | *247
|  |  | Approximately 100 feet upstream of US Route 167 | *255
|  | McCright Branch | Approximately 2,000 feet downstream of Pear Orchard Drive | *285
|  |  | Approximately 150 feet upstream of Dena Drive | *310
|  | Owen Creek | Approximately 5,200 feet downstream of Midland Road | *323
|  |  | Approximately 2,000 feet upstream of Hilldale Road | *413
Maps are available for inspection at the Saline County Assessor's Office, Real Estate Department, 215 Main Suite 5, Benton, Arkansas.
Kansas | Wamego (City) (Pottawatomie County) (FEMA Docket No. 7609) | East Unnamed Creek | Approximately 1000 feet upstream of Pizza Hut Road | *1019
|  |  | Approximately 900 feet upstream of Missile Base Road | *1041
|  | East Unnamed Creek Tributary | Approximately 700 feet upstreasm of the mouth | *1003
|  |  | Approximately 850 feet upstream of Graves Road | *1012
|  | North Unnamed Tributary | Just upstream of US Highway 24 | *987
|  |  | Approximately 100 feet upstream of Spencer Road | *991
Maps are available for inspection at the City of Wamego, 430 Lincoln Avenue, Wamego, Kansas.
Minnesota | Northfield (City) (Dakota and Rice Counties) (FEMA Docket No. 7609) | Cannon River | At downstream corporate limits | *890
|  |  | Approximately 1,200 feet upstream of the corporate limits (Limit of flooding affecting community) | *913
Maps are available for inspection at 801 Washington Street, Northfield, Minnesota.
Minnesota | St. Paul (City) (Ramsey County) (FEMA Docket No. 7609) | Mississippi River | Approximately 120 feet upstream of the corporate limits | *705
|  |  | Just downstream of Lock and Dam No. 1 | *716
Maps are available for inspections at the St. Paul Planning & Economic Development, 1300 City Hall Annex, 25 West 4th Street, St. Paul, Minnesota.
Missouri | Dalton (Village) (Chariton County) (FEMA Docket No. 7609) | Missouri River |  | *642-643
Maps are available for inspection at the Village of Dalton Chairperson's home, 109 N. Sycamore Street, Dalton, Missouri.

(Catalog of Federal Domestic Assistance No. 83.100, “Flood Insurance.”)
Dated: November 13, 2002.
Anthony S. Lowe,
Administrator, Federal Insurance and Mitigation Administration.

[FR Doc. 02-29962 Filed 11-25-02; 8:45 am]

BILLING CODE 6718-04-P